SURFACE TRANSPORTATION BOARD

[Docket No. AB 167 (Sub-No. 1195X)]

Consolidated Rail Corporation—Abandonment Exemption—in Schuylkill & Carbon Counties, Pa.

Consolidated Rail Corporation (Conrail) has filed a verified notice of exemption under 49 CFR part 1152 subpart F—Exempt Abandonments to abandon a railroad line known as the Tresckow Branch, which runs between milepost 0.0 and milepost 7.7 in the Township of Kline in Schuylkill County, Pa., and the Townships of Packer and Banks in Carbon County, Pa. (the Line).¹ The Line traverses U.S. Postal Service Zip Codes 18237 and 18255.

¹ Conrail submitted its verified notice of exemption on November 12, 2021. However, by decision served December 2, 2021, the effective date of the notice of exemption was postponed and Conrail was directed to submit supplemental information addressing the status of the Line. Conrail filed supplements on January 18, 2022, and January 27, 2022. Additional information can be found in the decision served on August 4, 2022, in this proceeding.

Conrail has certified that: (1) no local traffic has moved over the Line in the past two years; (2) any overhead traffic could be rerouted over other lines; (3) no formal complaint filed by a user of rail service on the Line (or by a state or local government entity acting on behalf of such user) regarding cessation of service over the Line either is pending with the Surface Transportation Board (Board) or with any U.S. District Court or has been decided in favor of a complainant within the two-year period; and (4) the requirements at 49 CFR 1105.7(b) and 1105.8(c) (notice of environmental and historic reports), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,² this exemption will be effective on September 3, 2022, unless stayed pending reconsideration. Petitions to stay that do not involve environmental issues,³ formal expressions of intent to file an OFA under 49 CFR 1152.27(c)(2), and interim trail use/rail banking requests under 49 CFR 1152.29 must be filed by August 15, 2022.⁴ Petitions to reopen or requests for public use conditions under 49 CFR 1152.28 must be filed by August 24, 2022.

² Persons interested in submitting an OFA must first file a formal expression of intent to file an offer, indicating the type of financial assistance they wish to provide (i.e., subsidy or purchase) and demonstrating that they are preliminarily financially responsible. See 49 CFR 1152.27(c)(2)(i).

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Filing fees for OFAs and trail use requests can be found at 49 CFR 1002.2(f)(25) and (27), respectively.

All pleadings, referring to Docket No. AB 167 (Sub-No. 1195X), must be filed with the Surface Transportation Board either via e-filing on the Board's website or in writing addressed to 395 E Street SW, Washington, DC 20423-0001. In addition, a copy of each pleading must be served on Conrail's representative, Michael L. Rosenthal, Covington & Burling, LLP, One CityCenter, 850 Tenth Street NW, Washington, DC 20001-4956.

If the verified notice contains false or misleading information, the exemption is void ab initio.

Conrail has filed a combined environmental and historic report that addresses the potential effects, if any, of the abandonment on the environment and historic resources. OEA served a Draft Environmental Assessment (Draft EA) on December 7, 2021, and solicited public comments. Following the close of the public comment period, OEA issued a Final EA on December 27, 2021, and a Supplemental Final EA on January 19, 2022. The Draft EA, Final EA, and Supplemental Final EA are available to interested persons on the Board's website, by writing to OEA, or by calling OEA at (202) 245-0294. Assistance for the hearing impaired is available through the Federal Relay Service at (800) 877-8339.

Environmental, historic preservation, public use, or trail use/rail banking conditions will be imposed, where appropriate, in a subsequent decision.

Pursuant to the provisions of 49 CFR 1152.29(e)(2), Conrail shall file a notice of consummation with the Board to signify that it has exercised the authority granted and fully abandoned the Line. If consummation has not been effected by Conrail's filing of a notice of consummation by August 4, 2023, and there are no legal or regulatory barriers to consummation, the authority to abandon will automatically expire.

Board decisions and notices are available at www.stb.gov.

Decided: August 1, 2022.
By the Board, Mai T. Dinh, Director, Office of Proceedings.
Eden Besera,
Clearance Clerk.

[FR Doc. 2022-16725 Filed 8-3-22; 8:45 am]

BILLING CODE 4915-01-P